DEPARTMENT OF VETERANS AFFAIRS

Privacy Act of 1974; System of Records

AGENCY: Financial Services Center (FSC), Department of Veterans Affairs (VA).

ACTION: Notice of a new system of records.

SUMMARY: The systems included on this notice are systems used by VA Payroll for processing and reporting on information related to payroll actions for VA employees. The Privacy Act of 1974 requires that all agencies publish in the Federal Register a notice of the existence and character of their systems of records. Notice is hereby given that the Department of Veterans Affairs (VA), Financial Services Center (FSC) is creating a new system of records entitled “Payroll Processing and Reporting—VA” System of Records Notice” (208VA0478C).

DATES: Comments on this new system of records must be received no later than 30 days after date of publication in the Federal Register. If no public comment is received during the period allowed for comment or unless otherwise published in the Federal Register by VA, the new system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to “Payroll Processing and Reporting—VA”, 208VA0478C. Comments received will be available at www.regulations.gov for public viewing, inspection or copies.

FOR FURTHER INFORMATION CONTACT: Jonathan Lindow, Financial Services Center, Department of Veterans Affairs, 1615 Woodward Street, Austin, TX 78772, (512) 981-4871, or Jonathan.Lindow@va.gov.

SUPPLEMENTARY INFORMATION: Kronos webTA (Time and Attendance) is an automated, centralized, web-based time and attendance system developed to replace the legacy Enhanced Time and Attendance (ETA) system. Kronos webTA provides a modern take on quick and accurate transmission of data, allows for rapid creation of reports, and establishes a flexible foundation for future enhancements. The system allows employees to see “day to day” information like hours worked, leave balances, and a transparent approval workflow for timesheet certifications, and leave and premium pay request.

Defense Civilian Pay System (DCPS) is the primary interface of VA Payroll personnel with the Defense Finance and Accounting Service (DFAS). DCPS provides the ability to update an employee's payroll information and view payroll reports.

Nationwide Payroll (SQL) is primarily used for Retirement & Contingency Pay Audits and Retirement & Contingency Leave Audits. We use the system to validate retirement codes & contributions, OASDI wages, TSP GB & GM, and retirement corrections. It serves as a research tool and provides invaluable Individual Retirement Record, and Military Service Deposit.

Office of Financial Management Resources Portal (OFMR) application maintains payroll data for all VA employees, current and separated. It has the capability to create custom reports and export to excel format. It is used to search payroll data by SSN and VA EIN for current and separated VA employees going back to 1999 and forward. It is also used for audit purposes and serves as a repository for payroll data. We can gather historical data as needed from one application. It is used daily by the FSC Payroll Support Division.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on August 7, 2023 for publication.

Dated: September 12, 2023.
Amy L. Rose,
Government Information Specialist, VA Privacy Service, Office of Compliance, Risk and Remediation, Office of Information and Technology, Department of Veterans Affairs.

SYSTEM NAME AND NUMBER:

“Payroll Processing and Reporting—VA” (208VA0478C).

SECURITY CLASSIFICATION:

Unclassified.

SYSTEM LOCATION:

This system of record is located in the Financial Services Center, Austin, TX.

SYSTEM MANAGER(S):

Jonathan Lindow, Financial Services Center, Department of Veterans Affairs, 1615 Woodward Street, Austin, TX 78772, (512) 981-4871, or Jonathan.Lindow@va.gov.

Elaine Walter, Financial Services Center, Department of Veterans Affairs, 7600 Metropolis Dr., Austin, TX 78744, (512) 516-3263, elaine.walter@va.gov.

Wayne Mobley, Financial Services Center, Department of Veterans Affairs, 7600 Metropolis Dr., Austin, TX 78744, (512) 516-3263, wayne.mobley@va.gov.

AUTHORITY FOR MAINTENANCE OF THE SYSTEM:

CFR part 4501, Office of Personnel Management.

PURPOSE(S) OF THE SYSTEM:

To maintain a system(s) for managing payroll related information including, but not limited to time and attendance, salary, deductions, and other personal information like addresses and beneficiaries. Systems and application that are listed above contains SSN, EIN, Retirement codes and contributions, OASDI Wages, TSP, and Military Service Deposits. The primary function of OFMR is a tool that we used to respond to customer service inquiries and data request. Projects include but are not limited to, Public Law 111-163, Post Quimby and Adams cases, Premium Pay for Periods of Leave, Clothing Allowance and Environmental Differential Leave (EDP).

CATEGORIES OF INDIVIDUALS COVERED BY THE SYSTEM:

Individuals covered by these systems are current and past VA employees.

CATEGORIES OF RECORDS IN THE SYSTEM:

Personnel Information like Name, Social Security Number, Addresses, Telephone number, Employee Type, Employee Status, Occupational Series, and other “Non-PII” information. Payroll Information including Time and Attendance, Leave Record, Salary, Deductions, Beneficiaries, Insurance and Retirement Information.

RECORD SOURCE CATEGORIES:

Record source are from users of the three systems.

ROUTINE USES OF RECORDS MAINTAINED IN THE SYSTEM, INCLUDING CATEGORIES OF USERS AND PURPOSES OF SUCH USES:

1. Congress: VA may disclose information to a Member of Congress or staff acting upon the Member's behalf when the Member or staff requests the information on behalf of, and at the request of, the individual who is the subject of the record.

2. Data breach response and remediation, for VA: VA may disclose information to appropriate agencies, entities, and persons when (1) VA suspects or has confirmed that there has been a breach of the system of records, (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data breach response and remediation, for another Federal agency: VA may disclose information to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement: VA may disclose information that, either alone or in conjunction with other information, indicates a violation or potential violation of law, whether civil, criminal, or regulatory in nature, to a Federal, state, local, territorial, tribal, or foreign law enforcement authority or other appropriate entity charged with the responsibility of investigating or prosecuting such violation or charged with enforcing or implementing such law. The disclosure of the names and addresses of veterans and their dependents from VA records under this routine use must also comply with the provisions of 38 U.S.C. 5701 Confidential nature of claims.

5. DoJ for Litigation or Administrative Proceeding: VA may disclose information to the Department of Justice (DoJ), or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components,

6. Contractors: VA may disclose information to contractors, grantees, experts, consultants, students, and others performing or working on a contract, service, grant, cooperative agreement, or other assignment for VA, when reasonably necessary to accomplish an agency function related to the records.

7. OPM: VA may disclose information to the Office of Personnel Management (OPM) in connection with the application or effect of civil service laws, rules, regulations, or OPM guidelines in particular situations.

8. EEOC: VA may disclose information to the Equal Employment Opportunity Commission (EEOC) in connection with investigations of alleged or possible discriminatory practices, examination of Federal affirmative employment programs, or other functions of the Commission as authorized by law.

9. FLRA: VA may disclose information to the Federal Labor Relations Authority (FLRA) in connection with: the investigation and resolution of allegations of unfair labor practices, the resolution of exceptions to arbitration awards when a question of material fact is raised; matters before the Federal Service Impasses Panel; and the investigation of representation petitions and the conduct or supervision of representation elections.

10. MSPB: VA may disclose information to the Merit Systems Protection Board (MSPB) and the Office of the Special Counsel in connection with appeals, special studies of the civil service and other merit systems, review of rules and regulations, investigation of alleged or possible prohibited personnel practices, and such other functions promulgated in 5 U.S.C. 1205 and 1206, or as authorized by law.

11. NARA: VA may disclose information to NARA in records management inspections conducted under 44 U.S.C. 2904 and 2906, or other functions authorized by laws and policies governing NARA operations and VA records management responsibilities.

12. Treasury, for Withholding VA may disclose information concerning an individual's indebtedness by virtue of a person's participation in a benefits program administered by VA, to the Department of the Treasury for the collection of Title 38 benefit overpayments, overdue indebtedness, or costs of services provided to an individual not entitled to such services, by the withholding of all or a portion of the person's Federal income tax refund.

13. Treasury, to Report Waived Debt as Income VA may disclose information concerning an individual's indebtedness that is waived under 38 U.S.C. 3102, compromised under 4 CFR part 103, otherwise forgiven, or for which the applicable statute of limitations for enforcing collection has expired, to the Department of the Treasury as a report of income under 26 U.S.C. 61(a)(12).

14. Treasury, to Report Earnings as Income VA may disclose information to the Department of the Treasury to report calendar year earnings of $600 or more for income tax reporting purposes.

15. Treasury, for Payment or Reimbursement VA may disclose information to the Department of the Treasury to facilitate payments to physicians, clinics, and pharmacies for reimbursement of services rendered or to veterans for reimbursement of authorized expenses, as well as to collect, by set off or otherwise, debts owed the United States.

16. Unions VA may disclose information identified in 5 U.S.C. 7114(b)(4) to officials of labor organizations recognized under 5 U.S.C. chapter 71 when relevant and necessary to their duties of exclusive representation concerning personnel policies, practices, and matters affecting working conditions.

POLICIES AND PRACTICES FOR STORAGE OF RECORDS:

The systems on this SORN retains data readily available for a period of 6 years.

POLICIES AND PRACTICES FOR RETRIEVAL OF RECORDS:

These records may be retrieved using various combinations of name, social security number, employee identification number, ticket number, or by employee user ID.

POLICIES AND PRACTICES FOR RETENTION AND DISPOSAL OF RECORDS:

In accordance with General Records Schedule 1.1, Item #10, records are destroyed 6 years after final payment or cancellation, but longer retention is authorized for business use.

ADMINISTRATIVE, TECHNICAL, AND PHYSICAL SAFEGUARDS:

Access to these records is restricted to authorized VA employees or contractors, on a “need to know” basis. Offices where these records are maintained are locked after working hours and are protected from outside access by the Federal Protective Service, other security officers, and alarm systems. Access to computerized records is restricted to authorized VA employees or contractors, by means of unique user identification and passwords.

RECORD ACCESS PROCEDURES:

Individuals seeking information concerning the existence of a record must submit a written request to the current or the last VA payroll office that the employee worked. Such requests must contain a reasonable description of the records requested. In addition, identification of the individual requesting the information will be required in the written request and will consist of the requester's name, signature, and address, as a minimum.

CONTESTING RECORD PROCEDURES:

Individuals contesting accuracy of the record should contact their current or their last VA Payroll Office.

NOTIFICATION PROCEDURES:

Payroll Field Support Branch vafscpayrolltier1@va.gov.

EXEMPTIONS PROMULGATED FOR THE SYSTEM:

There is no category of records in this system that has been identified as exempt from any section of the Privacy Act.

HISTORY:

Not applicable.

[FR Doc. 2023-20051 Filed 9-14-23; 8:45 am]

BILLING CODE P